DEPARTMENT OF ENERGY

Federal Energy Regulatory Commission

[Docket No. EL14-86-000]

Attorney General of the Commonwealth of Massachusetts, Connecticut Public Utilities Regulatory Authority, Massachusetts Municipal Wholesale Electric Company, New Hampshire Electric Cooperative, Inc., Massachusetts Department of Public Utilities, New Hampshire Public Utilities Commission, George Jepsen, Attorney General of the State of Connecticut, Connecticut Office of Consumer Counsel, Maine Office of the Public Advocate, New Hampshire Office of the Consumer Advocate, Rhode Island Division of Public Utilities and Carriers, Vermont Department of Public Service, Associated Industries of Massachusetts, The Energy Consortium, Power Options, Inc., Western Massachusetts Industrial Group, Environment Northeast, National Consumer Law Center, Greater Boston Real Estate Board, Industrial Energy Consumer Group v. Bangor Hydro-Electric Company, Central Maine Power Company, New England Power Company d/b/a National Grid New Hampshire Transmission LLC d/b/a NextEra, Northeast Utilities Service Company, on Behalf of Its Operating Company Affiliates: The Connecticut Light and Power Company, Western Massachusetts Electric Company, Public Service Company of New Hampshire, NSTAR Electric Company, The United Illuminating Company, Unitil Energy Systems, Inc., Fitchburg Gas and Electric Light Company, Vermont Transco, LLC; Notice of Complaint

Take notice that on July 31, 2014, pursuant to Rule 206 of the Federal Energy Regulatory Commission's (Commission) Rules of Practice and Procedure, 18 CFR 385.206 and sections 206 and 306 of the Federal Power Act, 16 U.S.C. 824(e) and 825(e), the Attorney General of the Commonwealth of Massachusetts, Connecticut Public Utilities Regulatory Authority, Massachusetts Municipal Wholesale Electric Company, New Hampshire Electric Cooperative, Inc., Massachusetts Department of Public Utilities, New Hampshire Public Utilities Commission, George Jepsen, Attorney General of the State of Connecticut, Connecticut Office of Consumer Counsel, Maine Office of the Public Advocate, New Hampshire Office of the Consumer Advocate, Rhode Island Division of Public Utilities and Carriers, Vermont Department of Public Service, Associated Industries of Massachusetts, The Energy Consortium, Power Options, Inc., Western Massachusetts Industrial Group, Environment Northeast, National Consumer Law Center, the Greater Boston Real Estate Board, and the Industrial Energy Consumer Group (collectively, Complainants) filed a formal complaint against Bangor Hydro-Electric Company, Central Maine Power Company, New England Power Company d/b/a National Grid, New Hampshire Transmission LLC d/b/a NextEra, NSTAR Electric Company, Northeast Utilities Service Company, on behalf of its operating company affiliates: The Connecticut Light and Power Company, Western Massachusetts Electric Company, and Public Service Company of New Hampshire, The United Illuminating Company, Unitil Energy Systems, Inc., Fitchburg Gas and Electric Light Company, and Vermont Transco, LLC (collectively, Respondents) alleging that, Respondents' return on equity (ROE) currently reflected in ISO New England Inc.'s Open Access Transmission Tariff (ISO-NE OATT) is unjust and unreasonable. Complainants request the Commission issue an order to reduce the ROE used in calculating formula rates for transmission service under the ISO-NE OATT.

The Complainants certifies that copies of the complaint were served on the contacts for the Respondents and the ISO-NE as listed in the Commission's list of Corporate Officials and on parties and the regulatory agencies the Complainants reasonably expect to be affected by this complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 21, 2014.

Dated: August 1, 2014.
Kimberly D. Bose,
Secretary.

[FR Doc. 2014-18890 Filed 8-8-14; 8:45 am]

BILLING CODE 6717-01-P